DEPARTMENT OF THE INTERIOR

National Park Service

[NPS-WASO-NAGPRA-NPS0034886; PPWOCRADN0-PCU00RP14.R50000]

Notice of Inventory Completion: Vassar College, Poughkeepsie, NY

AGENCY: National Park Service, Interior.

ACTION: Notice.

SUMMARY: Vassar College has completed an inventory of human remains in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to Vassar College. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Vassar College at the address in this notice by December 19, 2022.

FOR FURTHER INFORMATION CONTACT: Brian Daly, Vassar College, 124 Raymond Avenue, Poughkeepsie, NY 12604, telephone (845) 437-5310, email brdaly@vassar.edu.

SUPPLEMENTARY INFORMATION: Notice is here given in accordance with the Native American Graves Protection and Repatriation Act (NAGPRA), 25 U.S.C. 3003, of the completion of an inventory of human remains under the control of Vassar College, Poughkeepsie, NY. The human remains were removed from an unknown geographic location.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Vassar College professional staff in consultation with representatives of the Gila River Indian Community of the Gila River Indian Reservation, Arizona and the Salt River Pima-Maricopa Indian Community of the Salt River Reservation, Arizona.

An invitation to consult was extended to the Ak-Chin Indian Community (previously listed as Ak Chin Indian Community of the Maricopa (Ak Chin) Indian Reservation, Arizona); Hopi Tribe of Arizona; Tohono O'Odham Nation of Arizona; and the Zuni Tribe of the Zuni Reservation, New Mexico.

Hereafter, all the Indian Tribes listed in this section are referred to as “The Tribes.”

History and Description of the Remains

On an unknown date, human remains representing, at minimum, five individuals were removed from an unknown geographic location. During the 1920s, the human remains (Mandible 1; Mandible 2; Mandible 5; Mandible 7) were acquired by Vassar College's Natural History and Social Museums. After the museums dissolved in the 1960s, the human remains were acquired by the Anthropology and Biology departments. Human remains located in the Biology and Anthropology Department teaching collections were examined for visual and statistical markers of Native American affinities, with results reported on December 21, 2020. The results from the assessments identified these individuals with “Hohokam” affinity. No known individuals were identified. No associated funerary objects are present.

Determinations Made by Vassar College

Officials of Vassar College have determined that:

• Pursuant to 25 U.S.C. 3001(9), the human remains described in this notice represent the physical remains of five individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Brian Daly, Vassar College, 124 Raymond Avenue, Poughkeepsie, NY 12604, telephone (845) 437-5310, email brdaly@vassar.edu, by December 19, 2022. After that date, if no additional requestors have come forward, transfer of control of the human remains to The Tribes may proceed.

Vassar College is responsible for notifying The Tribes that this notice has been published.

Dated: November 9, 2022.
Melanie O'Brien,
Manager, National NAGPRA Program.

[FR Doc. 2022-25131 Filed 11-17-22; 8:45 am]

BILLING CODE 4312-52-P